ENVIRONMENTAL PROTECTION AGENCY

40 CFR Part 50

[EPA-HQ-OAR-2005-0172; FRL-8513-1]

Availability of Additional Information Related to the Review of the National Ambient Air Quality Standards for Ozone

AGENCY: Environmental Protection Agency (EPA).

ACTION: Notice of data availability.

SUMMARY: The EPA is providing notice that it has placed in the docket for the review of the national ambient air quality standards (NAAQS) for ozone (O3) (Docket No. EPA-HQ-OAR-2005-0172) additional information relevant to the rulemaking proposing revisions to those standards. See 72 FR 37818, July 11, 2007. Specifically, this notice announces the availability of a memorandum from Abt Associates, Inc. dated November 27, 2007. The subject of the memo is: “Additional Tables: Non-Accidental Mortality and Lung Function Responses Associated with O3 Concentrations that Just Meet the Current and Alternative 8-Hour Daily Maximum Standards—Totals and Portions Attributable to O3 Within 0.1 ppm Ranges, Based on 2002 and 2004 Air Quality Data.” The docket number for this memo is EPA-HQ-OAR-2005-0172-6942.

DATES: The memorandum was placed in the Ozone NAAQS docket on December 17, 2007.

FOR FURTHER INFORMATION CONTACT: Mr. Harvey Richmond, Office of Air Quality Planning and Standards (C-504-06), U.S. Environmental Protection Agency, Research Triangle Park, NC 27711: telephone: 919-541-5271; e-mail: richmond.harvey@epa.gov.

SUPPLEMENTARY INFORMATION:

A. Background

On July 11, 2007, EPA published a proposed rule to make revisions to the primary and secondary NAAQS for ozone to provide requisite protection of public health and welfare (72 FR 37818). A Technical Support Document (TSD) was completed in July 2007 by Abt Associates, Inc. entitled “Ozone Health Risk Assessment for Selected Urban Areas.” This TSD is docket item EPA-HQ-OAR-2005-0172-6794. Since completion of the TSD, Abt Associates, Inc. has prepared an additional analysis to show the non-accidental mortality and lung function risk associated with each 0.01 ppm O3 concentration or exposure interval for air quality simulating just meeting the current and several alternative standards based on 2002 and 2004 air quality data. The total O3-related risk for non-accidental mortality and specific lung function responses are also presented in the tables in this memo and are the same as reported in the July 2007 TSD.

B. How Can I Get a Copy of This Document?

1. Docket. EPA has established a docket for this action under Docket ID No. EPA-HQ-OAR-2005-0172. The document entitled “Additional Tables: Non-Accidental Mortality and Lung Function Responses Associated with O3 Concentrations that Just Meet the Current and Alternative 8-Hour Daily Maximum Standards—Totals and Portions Attributable to O3 Within 0.1 ppm Ranges, Based on 2002 and 2004 Air Quality Data” has been placed in this docket as docket item EPA-HQ-OAR-2005-0172-6942. Publicly available docket materials are available either electronically through http://www.regulations.gov or in hard copy at the Air and Radiation Docket and Information Center, EPA/DC, Room 3334, 1301 Constitution Ave., NW., Washington, DC. The EPA Docket Center Public Reading Room is open from 8:30 a.m. to 4:30 p.m., Monday through Friday, excluding legal holidays. The telephone number for the Public Reading Room is (202) 566-1744 and the telephone number for the Air and Radiation.

List of Subjects in 40 CFR Part 50

Environmental protection, Air pollution control, Carbon monoxide, Lead, Nitrogen dioxide, Ozone, Particulate matter, Sulfur oxides.

Dated: December 21, 2007.
Peter Tsirigotis,
Acting Director, Office of Air Quality Planning and Standards.

[FR Doc. 07-6287 Filed 1-3-08; 8:45 am]

BILLING CODE 6560-50-M